Title 3—

The President

Presidential Determination No. 2005-36 of September 14, 2005

Presidential Determination on Major Drug Transit or Major Illicit Drug Producing Countries for Fiscal Year 2006

Memorandum for the Secretary of State

Pursuant to section 706(1) of the Foreign Relations Authorization Act, Fiscal Year 2003 (Public Law 107-228) (FRAA), I hereby identify the following countries as major drug transit or major illicit drug producing countries: Afghanistan, The Bahamas, Bolivia, Brazil, Burma, Columbia, Dominican Republic, Ecuador, Guatemala, Haiti, India, Jamaica, Laos, Mexico, Nigeria, Pakistan, Panama, Paraguay, Peru, and Venezuela.

A country's presence on the Majors List is not necessarily an adverse reflection of its government's counternarcotics efforts or level of cooperation with the United States. Consistent with the statutory definition of a major drug-transit or drug-producing country set fourth in section 481(e)(2) and (5) of the Foreign Assistance Act of 1961, as amended (FAA), one of the reasons that major drug transit or illicit drug producing countries are placed on the list is the combination of geographical, commercial, and economic factors that allow drugs to transit or be produced despite the concerned government's most assiduous enforcement measures.

Pursuant to section 706(2)(A) of the FRAA, I hereby designated Burma and Venezuela as countries that have failed demonstrably during the previous 12 months to adhere to their obligations under international counternarcotics agreements and take the measures set fourth in section 489(a)(1) of the FAA. Attached to this report (Tab A) are justifications for the determinations on Burma and Venezuela, as required by section 706(2)(B).

I have also determined, in accordance with provisions of section 706(3)(A) of the FRAA, that support for program to aid Venezuela's democratic institutions, establish selected community development projects, and strengthen Venezuela's political party system is vital to the national interests of the United States.

I have removed China and Vietnam from the list of major drug transit or major illicit drug producing countries because there is insufficient evidence to suggest that China is a major source zone or transit country for illicit narcotics that significantly affects the United States. There is insufficient evidence to refute claims by the Government of Vietnam that they have virtually eliminated opium poppy production. Additionally, although cooperation with United States law enforcement is limited, there are no indications of a significant Vietnam-based drug threat to the United States.

Despite the Government of Afghanistan's counternarcotics efforts, we remain concerned about the disturbing magnitude of the drug trade and the prospect that opium poppy cultivation will likely increase in 2006. We are also concerned about government corruption, especially at the regional and local levels, impending counternarcotics efforts. For these efforts to be effective, government corruption with respect to the opium economy must be seriously addressed-by both local and central government authorities.

The Government of Canada has made real progress in curbing the diversion into the United States of pseudoephedrine, which fuels the production of methamphetamine. There are indications, however, that Canadian-based criminal groups are increasingly involved in the production of MDMA (Ecstasy) destined for the United States. Large scale cross-border trafficking of Canadian-grown marijuana remains a serious concern. The United States appreciates the excellent law enforcement cooperation with Canada in combating these shared threats.

While Haiti made efforts this year to improve its performance, we reiterate our concerns from last year about the Interim Government of Haiti's inability to effectively organize Haitian law enforcement resources to permit sustained counternarcotics efforts. Further, the national criminal justice system must be significantly strengthened in order to be effective and gain public confidence.

The Government of The Netherlands has achieved considerable success in countering the production and flow of MDMA (Ecstasy) to the United States, and The Netherlands is commended for its enhanced efforts. In the coming year, the United States would like to build upon our law enforcement cooperation with the Dutch government through advancements in mutual legal assistance and direct engagement between our respective police agencies.

Drug trafficking, money laundering, and other organized criminal activity in Nigeria remain major sources of concern to the United States. Progress over the past year on anti-money laundering controls is welcome, but much remains to be done to make such controls effective. Implementing anti-corruption policies must advance more quickly, as corruption at all levels of government continues to hamper effective narcotics law enforcement. In addition, measures similar to those taken to improve drug law enforcement at Nigeria's main airport need to be expanded to, and replicated at, Nigeria's seaports, where drug trafficking is a growing concern. Finally, the National Drug Law Enforcement Agency (NDLEA) and other counternarcotics institutions should work towards developing the mindset and capacity to pursue investigations, and prosecutions of major drug traffickers based in the country.

We remain concerned with the continued involvement by the Democratic People's Republic of Korea (DPRK) in criminal activity, including drug production and drug trafficking. Given the close relationship between Japanese and Chinese criminal elements and DPRK drug traffickers in past smuggling incidents, there is a real possibility of continuing DPRK involvement in drug trafficking, even when a given incident appears only to involve ethnic Chinese or other organized Asian criminal groups.

You are hereby authorized and directed to submit this determination to the Congress and to publish it in the Federal Register.

B

THE WHITE HOUSE,

Washington, September 14, 2005.

[FR Doc. 05-19548

Filed 9-27-05; 9:25 am]

Billing code 4710-10-P